DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAA is issuing this notice to advise the public of a meeting of RTCA Special Committee 193/EUROCAE Working Group 44: Terrain and Airport Databases.

DATES: The meeting will be held September 16-20, 2002 from 9 a.m.-5 p.m.

ADDRESSES: The meeting will be held at Service de I'Information Aeronautique (SAI) 8, avenue Roland Garros, B.P. 245, 33698 Bordeaux Merignac, FRANCE

FOR FURTHER INFORMATION CONTACT: RTCA Secretariat, 1828 L Street, NW, Suite 805, Washington, DC, 20036; telephone (202) 833-9330; fax 9202) 833-9434; Web site http://www.rtca.org.

SUPPLEMENTARY INFORMATION: Pursuant to section 10(a)(2) of the Federal Advisory Committee Act Pub. L. 92-463, 5 U.S.C. Appendix 2), notice is hereby given for a Special Committee 193/EUROCAE Working Group 44 meeting. The agenda will include:

• September 16:

• Opening Plenary Session 9welcome and Introductory Remarks, Review/Approval of Meeting Agenda, review Summary of Previous Meeting)

• Presentations/Discussions

• Subgroup 4 (Database Exchange Format)

• Resolution of Action Items

• Feature catalogue review

—Aerodrome database

—Terrain database

—Obstacle database

• September 17:

• Subgroup 4 (Continue previous day activities)

• September 18:

• Subgroup 4 (Continue previous day activities)

• Metadata Review

• September 19:

Subgroup 4 (Continue previous day activities)

• Quality specific requirements

• Discuss application schemes

• September 20:

• Closing Plenary Session (Summary of Subgroup 4, Assign Tasks, Other Business, Date and place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 3, 2002.
Janice L. Peters,
FAA Special Assistant, RTCA Advisory Committee.

[FR Doc. 02-17367 Filed 7-9-02; 8:45 am]

BILLING CODE 4910-13-M